DEPARTMENT OF HOMELAND SECURITY

Coast Guard

33 CFR Part 165

[CGD09-06-035]

RIN 1625-AA00

Safety Zone: Lake Michigan, Milwaukee, WI

AGENCY: Coast Guard, DHS.

ACTION: Notice of Implementation of final rule.

SUMMARY: The Coast Guard is implementing safety zones for annual fireworks displays in the Captain of the Port Sector Lake Michigan Zone during June 2006. This action is necessary to provide for the safety of life and property on navigable waters during these events. These safety zones will restrict vessel traffic from a portion of the Captain of the Port Sector Lake Michigan Zone.

DATES: Regulations at 33 CFR 165.909(a)(1) through (3) and (9) will be enforced from 12:01 a.m. on June 12, 2006 to 11:59 p.m. on June 30, 2006. All times given in this notice are local.

FOR FURTHER INFORMATION CONTACT: Chief Warrant Officer Brad Hinken, Sector Lake Michigan, (414) 747-7154.

SUPPLEMENTARY INFORMATION: The Coast Guard is implementing the permanent safety zones in 33 CFR 165.909, for fireworks displays in the Captain of the Port Sector Lake Michigan Zone during June 2006. The following safety zones will be enforced during the times indicated below:

(1) Pridefest Fireworks, Milwaukee, WI. Location: All waters off of Henry W. Maier Festival Park Harbor Island, outer Milwaukee Harbor from the point of origin at 43[deg]02.209[min] N, 087[deg]53.714[min] W; southeast to 43[deg]02.117[min] N, 087[deg]53.417[min] W; then south to 43[deg]01.767[min] N, 087[deg]53.417[min] W; then southwest to 43[deg]01.555[min] N, 087[deg]53.772[min] W; then north following the shoreline back to the point of origin. All geographic coordinates are North American Datum of 1983 (NAD 83). The Harbor Island Lagoon Area is encompassed by this safety zone. This safety zone will be enforced from 9 p.m. to 10:30 p.m. on June 9, 2006.

(2) Summerfest Fireworks, Milwaukee, WI. Location: All waters off of Henry W. Maier Festival Park Harbor Island, outer Milwaukee Harbor encompassed by a line drawn from the point of origin at 43[deg]02.209[min] N, 087[deg]53.714[min] W; then southeast to 43[deg]02.117[min] N, 087[deg]53.417[min] W; then south to 43[deg]01.767[min] N, 087[deg]53.417[min] W; then southwest to 43[deg]01.555[min] N, 087[deg]53.772[min] W; then north following the shoreline back to the point of origin (NAD 83). The Harbor Island Lagoon Area is encompassed by this safety zone. This safety zone will be enforced from 10:00 p.m. to 11:30 p.m. on June 29, 2006 or, in the event of foul weather, during those same times on June 30, 2006.

(3) Summerfest Hole-in-One Shoot/Stunt Shows, Milwaukee, WI. Location: All waters of the Harbor Island Lagoon, outer Milwaukee Harbor from the point of origin at 43[deg]02.50[min] N, 087[deg]53.78[min] W then west to 43[deg]02.50[min] N, 087[deg]53.85[min] W; then following the shoreline of the Henry W. Maier Festival Park and Harbor Island back to the point of origin (NAD 83). This safety zone will be enforced from 12 p.m. to 12 a.m. on June 29, 2006 and June 30, 2006.

(4) Riversplash Fireworks, Milwaukee, WI. Location: All waters and adjacent shoreline of Pere Marquette Park, Milwaukee River encompassed by the arc of a circle with a 210-foot radius of the fireworks barge in approximate position 43[deg]02.33[min] N, 087[deg]54.46[min] W (NAD 83). (This safety zone will temporarily close down the Milwaukee River.) This safety zone will be enforced from 8:30 p.m. to 10:30 p.m. on June 2, 2006 and June 3, 2006.

In order to ensure the safety of spectators and transiting vessels, these safety zones will be enforced for the duration of the events. In the event that these safety zones affect shipping, commercial vessels may request permission from the Captain of the Port, Sector Lake Michigan to transit through the safety zone. Requests must be made in advance and approved by the Captain of Port before transits will be authorized. The Captain of the Port may be contacted via U.S. Coast Guard Sector Lake Michigan on channel 16, VHF-FM. The Coast Guard will give notice to the public via a Broadcast to Mariners that the regulation is in effect.

Dated: June 1, 2006.
S.P. LaRochelle,
Captain, U.S. Coast Guard, Captain of the Port Sector Lake Michigan.

[FR Doc. E6-9131 Filed 6-9-06; 8:45 am]

BILLING CODE 4910-15-P